DEPARTMENT OF COMMERCE

International Trade Administration

[A-570-106, C-570-107]

Wooden Cabinets and Vanities and Components Thereof From the People's Republic of China: Final Scope Determination, Certification Requirements, and Recission of Circumvention Inquiries on the Antidumping and Countervailing Duty Orders

AGENCY: Enforcement and Compliance, International Trade Administration, Department of Commerce.

SUMMARY: The U.S. Department of Commerce (Commerce) determines that certain imports of wooden cabinets and vanities and components thereof (wooden cabinets), completed in Malaysia or the Socialist Republic of Vietnam (Vietnam) using wooden cabinet components or constituent wooden parts manufactured in the People's Republic of China (China), are covered by the scope of the antidumping duty (AD) and countervailing duty (CVD) orders on wooden cabinets from China. Further, Commerce is rescinding the circumvention inquiries that were initiated to determine whether imports of wooden cabinets from Malaysia or Vietnam are circumventing the AD and CVD orders on wooden cabinets from China.

DATES: Applicable July 17, 2024.

FOR FURTHER INFORMATION CONTACT: Michael Romani, AD/CVD Operations, Office I, Enforcement and Compliance, International Trade Administration, U.S. Department of Commerce, 1401 Constitution Avenue NW, Washington, DC 20230; telephone: (202) 482-0198.

SUPPLEMENTARY INFORMATION:

Background

On April 21, 2020, Commerce published the AD and CVD orders on imports of wooden cabinets from China.¹ On May 24, 2022, Commerce issued scope initiation memoranda explaining that we intended to determine whether imports of wooden cabinets completed in Malaysia and Vietnam using wooden component parts manufactured in China are covered by the AD and CVD orders on wooden cabinets from China.² Further, on June 10, 2022, Commerce published in the Federal Register the notice of initiation of circumvention inquiries of the AD and CVD orders on wooden cabinets from China which were assembled in Malaysia or Vietnam using wooden cabinet component parts sourced from China.³ The American Kitchen Cabinet Alliance (the petitioner) withdrew its support for continuing the circumvention inquiry.⁴

¹ See Wooden Cabinets and Vanities and Components Thereof from the People's Republic of China: Antidumping Duty Order, 85 FR 22126 (April 21, 2020) (Wooden Cabinets from China AD Order); and Wooden Cabinets and Vanities and Components Thereof from the People's Republic of China: Countervailing Duty Order, 85 FR 22134 (April 21, 2020) (Wooden Cabinets from China CVD Order) (collectively, Orders).

² See Memoranda, “Initiation of Scope Inquiry,” dated May 24, 2022 (Scope Initiation).

³ See Wooden Cabinets and Vanities and Components Thereof from the People's Republic of China: Initiation of Circumvention Inquiries on the Antidumping and Countervailing Duty Orders, 87 FR 354999 (June 10, 2022) (Circumvention Initiation Notice), and accompanying Circumvention Initiation Memorandum.

⁴ See Memoranda, “Wooden Cabinets and Vanities and Components Thereof from the People's Republic of China—Final Scope Ruling on Certain Wooden Cabinets that Are Further Processed in Malaysia,” dated concurrently with this notice (Malaysia Final Scope Memorandum), at Comment 12; and “Wooden Cabinets and Vanities and Components Thereof from the People's Republic of China—Final Scope Ruling on Certain Wooden Cabinets that Are Further Processed in the Socialist Republic of Vietnam,” dated concurrently with this notice (Vietnam Final Scope Memorandum), at Comment 12 (collectively, Final Scope Rulings).

For a complete description of the events that followed the initiation, see the Final Scope Memoranda.⁵

⁵ See Final Scope Rulings at section II, Background.

Scope of the Orders

The merchandise covered by these Orders are wooden cabinets from China. A complete description of the scope of the Orders is provided in the Final Scope Memoranda.⁶

⁶ See Final Scope Rulings at section III, Scope of the Orders.

Merchandise Subject to the Scope and Circumvention Inquiries

These scope and circumvention inquiries cover wooden cabinets exported to the United States that were completed in Malaysia or Vietnam under the following scenarios:

Scenario 1: A Malaysian or Vietnamese company imports finished wooden cabinet doors, drawer fronts, and frames that are produced in China. The Malaysian or Vietnamese company produces wooden cabinet boxes and drawer boxes in Malaysia or Vietnam and combines the wooden cabinet subassemblies from China and Malaysia or Vietnam, resulting in merchandise that still meets the description of the scope of the Orders.

Scenario 2: A Malaysian or Vietnamese company imports semifinished wooden cabinet doors, drawer fronts, and frames that are produced in China and performs further processing of these components from China in Malaysia or Vietnam such as trimming, cutting, notching, punching, drilling, painting, staining, or other finishing processes. The Malaysian or Vietnamese company produced wooden cabinet boxes and drawer boxes in Malaysia or Vietnam and combines the wooden cabinet doors, drawer fronts, and frames that are produced in China with the wooden cabinet boxes and drawer boxes produced in Malaysia or Vietnam, resulting in merchandise that still meets the description of the scope of the Orders.

Scenario 3: A Malaysian or Vietnamese company imports semifinished wooden component parts of wooden cabinet doors, drawer fronts, and frames that are produced in China. The wooden component parts of the wooden cabinet doors, drawer fronts, and frames include rails, stiles, and panels. The Malaysian or Vietnamese company performs further processing of these parts from China in Malaysia or Vietnam such as trimming, cutting, notching, punching, drilling, painting, staining, or other finishing processes, including the assembly of the wooden component parts into completed subassembly doors, drawer fronts, and frames. The Malaysian or Vietnamese company produces wooden cabinet boxes and drawer boxes in Malaysia or Vietnam. Finally, the Malaysian or Vietnamese company combines the wooden cabinet doors, drawer fronts, and frames that are produced in China with the wooden cabinet boxes and drawer boxes produced in Malaysia or Vietnam, resulting in merchandise that still meets the description of the scope of the Orders.

Scenario 4: A Malaysian or Vietnamese company imports a finished wooden cabinet wooden component part, toe kick, that is produced in China. The Malaysian or Vietnamese company produces all other wooden cabinet component parts necessary to assemble a complete wooden cabinet in Malaysia or Vietnam. The Malaysian or Vietnamese company combines the wooden component part, cabinet box toe kick, produced in China with the other wooden cabinet component parts of the cabinet box, as well as the frame, doors, and drawer subassemblies made in Malaysia or Vietnam, resulting in merchandise that does not meet the description of the scope of the Orders.⁷

⁷ See Scope Initiation at 2-3; see also Petitioner's Letter “Response to Request for Additional Information,” dated May 17, 2022, at 5-6.

Methodology and Final Scope Ruling

Commerce conducted this scope inquiry in accordance with 19 CFR 351.225(k)(1) and 351.225(j). Specifically, as discussed in the Final Scope Memoranda, we find that Scenarios 1, 2, and 3 wooden cabinets produced in China, and combined in Malaysia or Vietnam with wooden cabinet component parts produced in Malaysia or Vietnam, and exported to the United States, are Chinese in origin and, thus, covered by the scope of the Orders.⁸ We find that merchandise made according to Scenario 4 is not subject to the Orders because it is substantially transformed in Malaysia or Vietnam.⁹ A complete list of the issues discussed in the Final Scope Rulings is contained in Appendix I.

⁸ See Memoranda, “Post-Preliminary Analysis,” dated September 28, 2023 (Malaysia Post-Preliminary Scope Memorandum), at 15, unchanged in Malaysia Final Scope Memorandum at section IV, “Scope Ruling”; and “Post-Preliminary Analysis,” dated September 28, 2023 (Vietnam Post-Preliminary Scope Memorandum), at 15, unchanged in Vietnam Final Scope Memorandum at section IV, “Scope Ruling.”

⁹ See Malaysia Post-Preliminary Scope Memorandum at 15, unchanged in Malaysia Final Scope Memorandum at section III, “Final Scope Determination”; see also Vietnam Post-Preliminary Scope Memorandum at 15; unchanged in Vietnam Final Scope Memorandum at section III, “Final Scope Determination.”

Continuation of Suspension of Liquidation in Accordance With Final Scope Ruling

As stated above, Commerce found that imports of Scenario 1, 2, and 3 wooden cabinets produced in China, and combined in Malaysia or Vietnam with wooden cabinet component parts produced in Malaysia or Vietnam, and exported to the United States, are Chinese in origin and, thus, covered the scope of the Orders. As a result of this determination and consistent with 19 CFR 351.225(l)(3), we intend to direct U.S. Customs and Border Protection (CBP) to suspend liquidation of Scenarios 1, 2, and 3 wooden cabinets from Malaysia or Vietnam, and to require a cash deposit of estimated duties, at the applicable rate, that are entered, or withdrawn from warehouse, for consumption on or after November 4, 2021, the effective date of the regulations pursuant to 19 CFR 351.225(l)(2).¹⁰ These suspension of liquidation and cash deposit requirements do not apply to imports of wooden cabinets from Malaysia or Vietnam produced under scenarios other than Scenarios 1, 2, and 3 (and otherwise not subject to the Orders). Therefore, cash deposits are not required for such merchandise, subject to the certification and documentation requirements described in the Importer and Exporter Certifications found in appendices II and III, respectively.

¹⁰ See Regulations to Improve Administration and Enforcement of Antidumping and Countervailing Duty Laws, 86 FR 52300 (September 20, 2021).

Specifically, if an importer of wooden cabinets from Malaysia or Vietnam claims that the wooden cabinet was not produced using Scenarios 1, 2, or 3, then the importer and exporter must meet the certification and documentation requirements described in Appendices II and III. An exporter of wooden cabinets in Malaysia or Vietnam claiming its wooden cabinet were not produced using the Chinese wooden cabinet input scenarios subject to these inquiries must prepare and maintain an Exporter Certification and documentation supporting the Exporter Certification (see Appendix III). In addition, importers of such wooden cabinets must prepare and maintain an Importer Certification (see Appendix II) and documentation supporting the Importer Certification. Further, the importer must also maintain a copy of the Exporter Certification and relevant supporting documentation from its exporter of wooden cabinets in Malaysia or Vietnam that were not produced using any of the Chinese wooden cabinet input scenarios subject to these inquiries.

If it is determined that the certification and/or documentation requirements in a certification have not been met (e.g., where the importer/exporter cannot support its claim that the imported merchandise was produced using any of the Chinese wooden cabinet input scenarios subject to these inquiries) Commerce will instruct CBP to suspend liquidation and require cash deposits for such entries.

For AD cash deposits, Commerce will instruct CBP to require AD cash deposits equal to the China-wide rate (i.e., 251.64 percent), unless the producer and/or exporter has a company-specific separate rate.¹¹ In that instance, the cash deposit rate will be the rate of the Chinese producer of the wooden cabinet that has a separate rate of its own.

¹¹ See Wooden Cabinets from China AD Order, 85 FR at 22127.

For CVD cash deposits, Commerce will instruct CBP to require CVD cash deposits equal to the all-others rate (i.e., 20.93 percent), unless the producer and/or exporter has a company-specific rate.¹² In that instance, the cash deposit rate will be the rate of the Chinese producer of the wooden cabinet that has its own rate. The suspension of liquidation and cash deposit requirements will remain in effect until further notice.

¹² See Wooden Cabinets from China CVD Order, 85 FR at 22135.

Finally, for imports of Scenarios 1, 2, and 3 wooden cabinets from Malaysia or Vietnam, Commerce has established third-country case numbers in the Automated Commercial Environment (ACE). For Scenarios 1, 2, and 3 wooden cabinets exported from Malaysia, where the country-of-origin changes for CBP's reporting purposes, importers should report such entries under the following third-country case numbers: A-557-107-000 and C-557-107-000. For Scenarios 1, 2, and 3 wooden cabinets exported from Vietnam, where the country-of-origin changes for CBP's reporting purposes, importers should report such entries under the following third-country case numbers: A-552-106-000 and C-552-107-000. The importer, producer, or exporter of Scenarios 1, 2, and 3 wooden cabinets from Malaysia or Vietnam should file a request in Enforcement and Compliance's electronic system, ACCESS, and on the record of the applicable administrative review proceeding, asking Commerce to establish a case number in ACE for China that is specific to the Chinese supplier of wooden cabinets if that supplier has its own company-specific rate. CBP may also submit a request through the ACE AD/CVD Portal Inquiry System, for Commerce to establish company-specific third-country case numbers for the Orders.

Where no certification is provided for an entry, and the Orders potentially apply to that entry, Commerce intends to instruct CBP to suspend the entry and collect cash deposits at the AD rate established for the China-wide entity and the CVD all-others rate, i.e., 251.64 percent and 20.93 percent, under the third-country case number above. These suspension of liquidation instructions will remain in effect until further notice.

Recission of the Circumvention Inquiries

Pursuant to 19 CFR 351.226(f)(6)(ii), Commerce may rescind a circumvention inquiry where it has been determined that the merchandise at issue in the circumvention inquiry is covered by the scope of the AD or CVD order. Commerce, in the Circumvention Initiation Notice, stated that it would first determine if the merchandise at issue is covered by the scope of the Orders before considering whether this merchandise is circumventing the Orders.¹³ Because we have now determined that the scope of the Orders covers imports of wooden cabinets from Malaysia or Vietnam produced under Scenarios 1, 2, and 3 (i.e., using certain wooden cabinet components or constituent wooden parts manufactured in China), we are rescinding the circumvention inquiries with respect to Scenarios 1, 2, and 3 merchandise.

¹³ See Circumvention Initiation Notice, 87 FR 35499, 35499-35500.

Further, on April 24, 2024, the domestic industry withdrew its request for a circumvention inquiries on wooden cabinets exported from Malaysia or Vietnam under Scenario 4 (i.e., using a wooden component part, toe kick, produced in China).¹⁴ Therefore, in accordance 19 CFR 351.226(f)(6)(i), Commerce finds that it is appropriate to also rescind the circumvention inquiries with respect to Scenario 4. As such, we are rescinding the circumvention inquiries in their entirety (i.e., for Scenarios 1, 2, 3, and 4 merchandise).

¹⁴ See Petitioner's Letter, “Comments on the Proposed Certification Regime,” dated April 24, 2024, at 5; see also Final Scope Ruling at Comment 12; Petitioner's Letter, “Scope Ruling Application and Request for Circumvention Inquiry,” dated April 20, 2020, at 2 (requesting a country-wide circumvention of the related application for scope inquiry, (i.e., of scenarios 1, 2, 3, and 4).

Suspension of Liquidation Related to the Recission of the Circumvention Inquiries

Pursuant to 19 CFR 351.226(l)(1), Commerce notified CBP of the initiation of these circumvention inquiries and directed CBP to continue the suspension of liquidation of entries of products subject to the circumvention inquiry that were already subject to the suspension of liquidation under the Orders and to apply the cash deposit rate that would be applicable if the products were determined to be covered by the scope of the Orders.¹⁵ Upon publication of this rescission notice, Commerce will inform CBP that Commerce is rescinding the circumvention inquiries in their entirety. However, because we have made affirmative scope findings on Scenarios 1, 2, and 3 merchandise, Commerce will instruct CBP to suspend merchandise produced under those three scenarios at the applicable rate(s) in effect on the date of entry until specific liquidation instructions are issued. Because we have found merchandise made according to Scenario 4 is not subject to the Orders and are rescinding the circumvention inquiries as to that scenario, we will instruct CBP to no longer suspend entries produced under Scenario 4 and liquidate any such entries without regard to duties.

¹⁵ See CBP Message 2164404, “Initiation of Circumvention Inquiry—Antidumping and Countervailing Duty Orders on Wooden Cabinets and Vanities and Components Thereof from the People's Republic of China (A-570-106, C-570-107),” dated June 13, 2022.

Certification Requirements for Malaysia and Vietnam

All Malaysian and Vietnamese companies are eligible to participate in the scope certification process. For further information, see the Final Scope Memoranda at Comment 10.

Importers are required to complete and maintain the applicable importer certification, and maintain a copy of the applicable exporter certification, and retain all supporting documentation for both certifications. Except for the entries described below, the importer certification must be completed, signed, and dated by the time the entry summary is filed for the relevant entry. The importer, or the importer's agent, must submit both the importer's certification and the exporter's certification to CBP as part of the entry process by uploading them into the document imaging system (DIS) in ACE. Where the importer uses a broker to facilitate the entry process, the importer should obtain the entry summary number from the broker. Agents of the importer, such as brokers, however, are not permitted to certify on behalf of the importer.

Exporters are required to complete and maintain the applicable exporter certification and provide the importer with a copy of that certification and all supporting documentation (e.g., invoice, purchase order, production records, etc.) Except for the entries described below, the exporter certification must be completed, signed, and dated by the time of shipment of the relevant entries. The exporter certification should be completed by the party selling wooden cabinets assembled in Malaysia or Vietnam to the United States.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For all wooden cabinets entered, or withdrawn from warehouse, for consumption during the period November 4, 2021 (the effective date of the regulations pursuant to 19 CFR 351.225(l)(2)), through the date of the publication of this Federal Register notice, where an entry has not been liquidated (and for entries for which liquidation has not become final), the relevant certifications should be completed and signed as soon as practicable, but not later than 90 days after the date of publication of this notice in the Federal Register. It is not necessary to file certifications in the DIS for entries from this period that have already been liquidated. For entries from this period, importers, and exporters each have the option to complete a blanket certification covering multiple entries, individual certifications for each entry, or a combination thereof. The exporter must provide the importer with a copy of the exporter certification with sufficient time for the importer to meet the 90-day deadline. Importers must file a Post Summary Correction with CBP, in accordance with CBP's regulations, to upload certifications for applicable unliquidated entries.

For unliquidated entries (and entries for which liquidation has not become final) of wooden cabinets from China that were declared as non-AD/CVD type entries (e.g., type 01) and entered, or withdrawn from warehouse, for consumption in the United States during the period November 4, 2021 (the effective date of the regulations pursuant to 19 CFR 351.225(l)(2)), through the date of the publication of this Federal Register notice, for which none of the above certifications may be made, importers must file a Post Summary Correction with CBP, in accordance with CBP's regulations, regarding conversion of such entries from non-AD/CVD type entries to AD/CVD type entries (e.g., type 01 to type 03). Importers should report those AD/CVD type entries using the third-country case numbers A-557-106 and C-557-107 for entries from Malaysia and A-552-106 and C-552-107 from Vietnam. The importer should pay cash deposits on those entries consistent with the regulations governing post summary corrections that require payment of additional duties.

If it is determined that an importer and/or exporter has not met the certification and/or related documentation requirements for certain entries, Commerce intends to instruct CBP to suspend, pursuant to this final affirmative country-wide scope determination and the Orders, all unliquidated entries for which these requirements were not met and to require the importer to post applicable cash deposits equal to the rates noted above.

Administrative Protective Order

This notice also serves as a reminder to parties subject to an administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 781(b) and 777(i) of the Act, 19 CFR 351.225(h), 19 CFR 351.226(f)(6), and 19 CFR 351.228.

Dated: July 10, 2024.
Abdelali Elouaradia,
Deputy Assistant Secretary for Enforcement and Compliance.

Appendix I

List of Topics Discussed in the Final Scope Ruling Memorandum

I. Summary

II. Background

III. Scope of the Orders

IV. Scope Ruling

V. Discussion of the Issues—Scope Determination and Substantial Transformation

Comment 1: Whether the Scope Inquiries Were Properly Initiated

Comment 2: Whether Parts Not Specified in the Scope Are Subject to the Orders

Comment 3: Whether Use of the Petitioner's New Factual Information (NFI) Is Appropriate

Comment 4: Whether Commerce Weighted Outcomes of the Substantial Transformation Analysis

Comment 5: Whether Certain Wooden Cabinets Are Subject to the Orders

Comment 6: Whether Wooden Cabinets Wholly Produced in Third Countries Are Subject to the Orders

VI. Discussion of the Issues—Certification

Comment 7: Whether Commerce Has the Authority to Implement Certification in a Scope Inquiry

Comment 8: Whether Commerce's Proposed Certification Regime Is Reasonable

Comment 9: Whether 45 Days Is Sufficient Time to File All Certifications

Comment 10: Whether All Parties Are Eligible to Certify

Comment 11: Whether Other Revisions to the Certification Language Are Appropriate

Comment 12: Whether to Rescind the Circumvention Inquiry

VII. Appendix A—Moot Comments

Comment 13: Whether Incorporations by Reference Are Necessary or Valid

Comment 14: Whether the Product Scenarios Are Ill-Defined

VIII. Recommendation

Appendix II

Importer Certification

I hereby certify that:

A. My name is {IMPORTING COMPANY OFFICIAL'S NAME} and I am an official of {NAME OF IMPORTING COMPANY}, located at {ADDRESS OF IMPORTING COMPANY}.

B. I have direct personal knowledge of the facts regarding the importation into the Customs territory of the United States of the wooden cabinets and vanities and components thereof (wooden cabinets) completed in Malaysia or the Socialist Republic of Vietnam (Vietnam) that entered under entry summary number(s), identified below, and are covered by this certification. “Direct personal knowledge” refers to facts the certifying party is expected to have in its own records. For example, the importer should have direct personal knowledge of the importation of wooden cabinets, including the exporter's and/or foreign seller's identity and location.

C. If the importer is acting on behalf of the first U.S. customer, include the following sentence as paragraph C of this certification:

The wooden cabinets covered by this certification was imported by {IMPORTING COMPANY} on behalf of {U.S. CUSTOMER}, located at {ADDRESS OF U.S. CUSTOMER}.

If the importer is not acting on behalf of the first U.S. customer, include the following sentence as paragraph C of this certification:

{NAME OF IMPORTING COMPANY} is not acting on behalf of the first U.S. customer.

D. The wooden cabinets covered by this certification were shipped to {NAME OF PARTY IN THE UNITED STATES TO WHOM THE MERCHANDISE WAS FIRST SHIPPED}, located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of the inputs used to produce the imported products).

F. This certification applies to the following entries (repeat this block as many times as necessary for each entry, to identify all the producers of wooden cabinet components and wooden component parts used to produce each wooden cabinet):

Entry Summary #:

Entry Summary Line Item #:

Foreign Seller:

Foreign Seller's Address:

Foreign Seller's Invoice #:

Foreign Seller's Invoice Line Item #:

Producer's Name:

Producer's Address:

Country of Origin of Wooden Cabinet Components or Wooden Cabinet Component Parts:

G. The wooden cabinets covered by this certification do not contain wooden cabinet components started in the People's Republic of China (China), completed in Malaysia or Vietnam, produced according to production Scenario 1, 2, or 3, and exported to the United States.¹⁶

¹⁶ Scenario 1: finished wooden doors, drawer fronts, and frames produced in China are combined in Malaysia or Vietnam with wooden cabinet and vanity boxes and drawers produced in Malaysia or Vietnam;

Scenario 2: semifinished wooden doors, drawer fronts, and frames produced in China are further processed in Malaysia or Vietnam (by, for example trimming, cutting, notching, punching, drilling, painting, staining, or other finishing processes), and combined in Malaysia or Vietnam with wooden cabinet and vanity boxes and drawers produced in Malaysia or Vietnam;

Scenario 3: semifinished parts of wooden cabinet and vanity doors, drawer fronts, and frames (including the rails, stiles, and panels) produced in China are further processed in Malaysia or Vietnam (by, for example trimming, cutting, notching, punching, drilling, painting, staining, or other finishing processes, including the assembly of the parts to produce fully finished wooden cabinet doors, drawer fronts, and frames) and combined in Malaysia or Vietnam with wooden cabinet and vanity boxes and drawers produced in Malaysia or Vietnam.

H. I understand that {IMPORTING COMPANY} is required to maintain a copy of this certification and sufficient documentation supporting this certification (i.e., documents maintained in the normal course of business, or documents obtained by the certifying party, for example, certificates of origin, product data sheets, bills of materials, productions records in China and Malaysia or Vietnam, descriptions of processes completed in China and Malaysia or Vietnam, invoices, etc.) until the later of: (1) the date that is five years after the latest entry date of the entries covered by the certification; or (2) the date that is three years after the conclusion of any litigation in the United States courts regarding such entries.

I. I understand that {IMPORTING COMPANY} is required to maintain a copy of the exporter's certification (attesting to the production and/or exportation of the imported merchandise identified above), and any supporting documentation provided to the importer by the exporter, until the later of: (1) the date that is five years after the latest entry date of the entries covered by the certification; or (2) the date that is three years after the conclusion of any litigation in United States courts regarding such entries.

J. I understand that {IMPORTING COMPANY} is required to submit a copy of the importer and exporter certifications as part of the entry summary by uploading them into the document imaging system in the Automated Commercial Environment, and to provide U.S. Customs and Border Protection (CBP) and/or the U.S. Department of Commerce (Commerce) with the importer certification, and any supporting documentation, and a copy of the exporter's certification, and any supporting documentation provided to the importer by the exporter, upon request of either agency.

K. I understand that the claims made herein, and the substantiating documentation, are subject to verification by CBP and/or Commerce.

L. I understand that failure to maintain the required certification and supporting documentation, or failure to substantiate the claims made herein, or not allowing CBP and/or Commerce to verify the claims made herein, may result in a de facto determination that all entries to which this certification applies are within the scope of the antidumping duty (AD) and countervailing duty (CVD) orders on wooden cabinets from China. I understand that such finding:

(i) will result in the suspension of liquidation of all unliquidated entries (and entries for which liquidation has not become final) for which these requirements were not met;

(ii) will result in the importer being required to post the AD and CVD cash deposits determined by Commerce; and

(iii) may also result in the importer no longer being allowed to participate in the certification process.

M. I understand that agents of the importer, such as brokers, are not permitted to make this certification.

N. This certification was completed by the time of filing the entry summary or within 45 days of the date on which Commerce issued the final scope determination implementing the certification regime.

O. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

Appendix III

Exporter Certification

The party that made the sale to the United States should fill out the exporter certification.

I hereby certify that:

A. My name is {COMPANY OFFICIAL'S NAME} and I am an official of {NAME OF FOREIGN COMPANY THAT MADE THE SALE TO THE UNITED STATES}, located at {ADDRESS OF FOREIGN COMPANY THAT MADE THE SALE TO THE UNITED STATES}.

B. I have direct personal knowledge of the facts regarding the production and exportation of the wooden cabinets and vanities and components thereof (wooden cabinets) for which sales are identified below. “Direct personal knowledge” refers to facts the certifying party is expected to have in its own records. For example, an exporter should have direct personal knowledge of the producer's identity and location.

C. The wooden cabinets covered by this certification were shipped to {NAME OF PARTY IN THE UNITED STATES TO WHOM MERCHANDISE WAS FIRST SHIPPED}, located at {U.S. ADDRESS TO WHICH MERCHANDISE WAS SHIPPED}.

D. The wooden cabinets covered by this certification do not contain wooden cabinet components, produced according to Scenarios 1, 2, or 3,¹⁷ started in the People's Republic of China (China), completed in Malaysia or Vietnam, and exported to the United States, regardless of whether sourced directly from a producer in China or from a downstream seller.

¹⁷ Scenario 1: finished wooden doors, drawer fronts, and frames produced in China are combined in Malaysia or the Socialist Republic of Vietnam (Vietnam) with wooden cabinet and vanity boxes and drawers produced in Malaysia or Vietnam;

Scenario 2: semifinished wooden doors, drawer fronts, and frames produced in China are further processed in Malaysia or Vietnam (by, for example trimming, cutting, notching, punching, drilling, painting, staining, or other finishing processes), and combined in Malaysia or Vietnam with wooden cabinet and vanity boxes and drawers produced in Malaysia or Vietnam;

Scenario 3: semifinished parts of wooden cabinet and vanity doors, drawer fronts, and frames (including the rails, stiles, and panels) produced in China are further processed in Malaysia or Vietnam (by, for example trimming, cutting, notching, punching, drilling, painting, staining, or other finishing processes, including the assembly of the parts to produce fully finished wooden cabinet doors, drawer fronts, and frames) and combined in Malaysia or Vietnam with wooden cabinet and vanity boxes and drawers produced in Malaysia or Vietnam.

E. This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer's Name:

Producer's Address:

Producer's Invoice # to Foreign Seller:

Name of Producer(s) of Wooden Cabinets, Wooden Cabinet Components, and Wooden Cabinet Component Parts:

Producers' Addresses Including Country:

F. I understand that {NAME OF FOREIGN COMPANY THAT MADE THE SALE TO THE UNITED STATES} is required to maintain a copy of this certification and sufficient documentation supporting this certification (i.e., documents maintained in the normal course of business, or documents obtained by the certifying party, for example, product data sheets, bills of materials, productions records, descriptions of processes completed in China and Malaysia or Vietnam, invoices, etc.) until the later of: (1) the date that is five years after the latest date of the entries covered by the certification; or (2) the date that is three years after the conclusion of any litigation in the United States courts regarding such entries.

G. I understand that {NAME OF FOREIGN COMPANY THAT MADE THE SALE TO THE UNITED STATES} is required to provide the U.S. importer with a copy of this certification and is required to provide U.S. Customs and Border Protection (CBP) and/or the U.S. Department of Commerce (Commerce) with this certification, and any supporting documents, upon request of either agency.

H. I understand that the claims made herein, and the substantiating documentation, are subject to verification by CBP and/or Commerce.

I. I understand that failure to maintain the required certification and supporting documentation, or failure to substantiate the claims made herein, or not allowing CBP and/or Commerce to verify the claims made herein, may result in a de facto determination that all sales to which this certification applies are within the scope of the antidumping and countervailing duty orders on wooden cabinets from China. I understand that such a finding:

(i) will result in suspension of all unliquidated entries (and entries for which liquidation has not become final) for which these requirements were not met;

(ii) will result in the importer being required to post the AD and CVD cash deposits determined by Commerce; and

(iii) may also result in the seller/exporter no longer being allowed to participate in the certification process.

J. I understand that agents of the seller/exporter, such as freight forwarding companies or brokers, are not permitted to make this certification.

K. This certification was completed at time of shipment or within 45 days of the date on which Commerce issued its final scope determination implementing the certification regime.

L. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

[FR Doc. 2024-15681 Filed 7-16-24; 8:45 am]

BILLING CODE 3510-DS-P